DEPARTMENT OF HOMELAND SECURITY

[Docket No. DHS-2025-0349]

Establishment of the White House Task Force World Cup 2026 Commission

AGENCY: Office of the Secretary, Department of Homeland Security.

ACTION: Notice of the establishment of the White House Task Force World Cup 2026 Commission.

SUMMARY: The Department of Homeland Security, through the Office of Partnership and Engagement, is establishing the White House Task Force World Cup 2026 Commission. The Commission is an advisory body made of representatives from the private sector that provide information, advice, and recommendations to the Executive Director of the White House Task Force on the FIFA World Cup 2026 (“Task Force”). The Commission's advice and recommendations are to be specific, actionable, timely, strategic, and targeted to the Task Force's role in coordination with executive departments and agencies (agencies), and the private sector, to assist in showcasing the Nation's pride and hospitality while promoting economic growth, safety and security, and tourism through the events surrounding the 2026 FIFA World Cup. The Commission is housed in the Department of Homeland Security, which shall provide funding and administrative support for the Commission. This Notice is not a solicitation for membership.

FOR FURTHER INFORMATION CONTACT: Michelle Nordman, Director of Operations, White House Task Force, FIFA World Cup 2026, U.S. Department of Homeland Security at WorldCupCommission@hq.dhsgov (202) 357-1232.

SUPPLEMENTARY INFORMATION: The Secretary is establishing the Board pursuant to section 871(a) of the Homeland Security Act of 2002. In recognition of the sensitive nature of the subject matter involved regarding the assessment and mitigation of security and operational risks through whole-of-government coordination, and strong partnership with the private sector that is required to conduct a large-scale international sports event in the United States, the Secretary hereby exempts the Commission from The Federal Advisory Committee Act, 5 U.S.C. Ch. 10, in accordance with 6 U.S.C. 451(a).

The Commission is an advisory body made of Commissioners that provide information, advice, and recommendations to the White House Task Force on the FIFA World Cup 2026 (“Task Force”) through the Executive Director of the Task Force. The Commission's advice and recommendations are to be specific, actionable, timely, strategic, and targeted to the Task Force's role in coordination with executive departments and agencies (agencies), and the private sector, to assist in showcasing the Nation's pride and hospitality while promoting economic growth, safety and security, and tourism through the events surrounding the 2026 FIFA World Cup. The Commission is housed in the Department of Homeland Security, which shall provide funding and administrative support for the Commission.

The duties of the Commission are solely advisory in nature and shall extend only to the submission of advice, recommendations, and reports to the Task Force, through the Executive Director.

Membership: The Commission shall be composed of Commissioners who are appointed by the Executive Director to represent the vital sectors of private industry who are engaged in showcasing the Nation's pride and hospitality while promoting economic growth, safety and security, and tourism through the FIFA World Cup 2026. The Executive Director of the Task Force will appoint a Chair and Vice Chair of the Commission from among the Commissioners.

The Commission Members serve for the duration of the Commission. Vacancies are filled as soon as highly qualified candidates in a needed area of expertise, sector, or perspective are identified and available to serve. In the event the Commission's charter terminates, all appointments to the Commission shall terminate.

Commissioners are appointed to provide the views and perspectives of specific interests and will serve as Representatives. Commissioners shall not serve as Special Government Employees as defined in 18 U.S.C. 202(a).

The Executive Director of the Task Force may appoint, as deemed necessary, non-voting subject matter experts (SMEs) to assist the Commission or its subcommittees on an ad hoc basis. These non-voting SMEs are not members of the Commission or its subcommittees and will not engage or participate in any deliberations by the Commission or its subcommittees. These non-voting SMEs, if not full-time or permanent part-time Federal officers or employees, will be appointed pursuant to 5 U.S.C. 3109 on an intermittent basis to address specific issues under consideration by the Commission.

Commissioners will serve without additional compensation. Travel expenses will be allowed, including per diem in lieu of subsistence, as authorized by law for persons serving intermittently in the Government service (5 U.S.C. 5701-5707), consistent with the availability of funds.

Subcommittees: At the request of the Executive Director of the Task Force, the Designated Federal Officer may establish subcommittees for any purpose consistent with the Charter. Subcommittees may be composed of Commissioners, non-Commissioners, and regular government employees, at the discretion of the Executive Director of the Task Force.

Duration: The Commission shall terminate on December 26, 2026.

Michael J. Miron,
Committee Management Officer, Department of Homeland Security.

[FR Doc. 2025-20961 Filed 11-24-25; 8:45 am]

BILLING CODE 9112-FN-P